ENVIRONMENTAL PROTECTION AGENCY

[EPA-HQ-OPP-2007-0837; FRL-8425-3]

Malathion; Product Cancellation Order and Amendments to Terminate Uses

AGENCY: Environmental Protection Agency (EPA).

ACTION: Notice.

SUMMARY: This notice announces EPA's order for the cancellations and amendments to terminate uses, voluntarily requested by the registrants and accepted by the Agency, of products containing the pesticide malathion, pursuant to section 6(f)(1) of the Federal Insecticide, Fungicide, and Rodenticide Act (FIFRA), as amended. This cancellation order follows a May 20, 2009 Federal Register Notice of Receipt of Requests from the malathion registrants to voluntarily cancel or to amend to terminate uses of certain malathion product registrations. These are not the last malathion products registered for use in the United States. In the May 20, 2009 Notice, EPA indicated that it would issue an order implementing the cancellations and amendments to terminate uses, unless the Agency received substantive comments within the 30 day comment period that would merit its further review of these requests, or unless the registrants withdrew their requests within this period. The Agency did not receive any comments on the notice. Further, the registrants did not withdraw their requests. Accordingly, EPA hereby issues in this notice a cancellation order granting the requested cancellations and amendments to terminate uses. Any distribution, sale, or use of the malathion products subject to this cancellation order is permitted only in accordance with the terms of this order, including any existing stocks provisions.

DATES: The cancellations are effective July 15, 2009.

FOR FURTHER INFORMATION CONTACT: Eric Miederhoff, Special Review and Reregistration Division (7508P), Office of Pesticide Programs, Environmental Protection Agency, 1200 Pennsylvania Ave., NW., Washington, DC 20460-0001; telephone number: (703) 347-8028; fax number: (703) 308-7070; e-mail address: miederhoff.eric@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2007-0837. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Action is the Agency Taking?

This notice announces the cancellations and amendments to terminate uses, as requested by registrants, of certain end-use malathion products registered under section 3 of FIFRA. These registrations are listed in sequence by registration number in Tables 1 and 2 of this unit.

Table 1.— Malathion Product Cancellations
Registration Number | Product Name | Company
228-68 | Riverdale Malathion 5 | Nufarm Americas, Inc.
228-93 | Riverdale Bin Spray | Nufarm Americas, Inc.
228-244 | Riverdale 50% Malathion E.C. | Nufarm Americas, Inc.
228-252 | Riverdale 4% Malathion Dust | Nufarm Americas, Inc.
228-274 | Riverdale ULV Malathion | Nufarm Americas, Inc.
655-794 | Prentox Malathion 57% EC | Prentiss, Inc.
5905-7 | Fyfanon 5 LB Emulsion | Helena Chemical Company
5905-443 | Helena Malathion 8 Insecticide | Helena Chemical Company
34704-3 | Malathion 55 Insecticide Premium Grade | Loveland Products Inc.
34704-18 | Malathion ULV Concentrate Insecticide | Loveland Products Inc.
34704-119 | Clean Crop Malathion 8EC Insecticide | Loveland Products Inc.
34704-721 | Niagara Malathion 5 Dust | Loveland Products Inc.

Table 2.—Malathion Product Registration Amendments to Terminate Uses
Registration Number | Product Name | Company | Terminate Use
192-96 | Dexol Malathion Insect Control | Value Garden Supply | Residential lawns (broadcast)
239-739 | Ortho Malathion 50 Insect Spray | The Scotts Company LLC | Residential lawns (broadcast)
655-310 | Malathion 95% Technical Premium | Prentiss, Inc. | Greenhouse food crops, Commercial/Institutional/Industrial premises/equipment (outdoor), sewer systems
655-598 | Prentox Malathion 50% Emulsifiable Insecticide | Prentiss, Inc. | Commercial/Institutional/Industrial premises/equipment (outdoor)
655-777 | Prentox 5 LB Malathion Spray | Prentiss, Inc. | Greenhouse food crops, Commercial/Institutional/Industrial premises/equipment (outdoor), lentils, manure piles, residential lawns (broadcast)
769-736 | SMCP Malathion Mole Cricket Bait Insecticide | Value Garden Supply | Residential lawns (broadcast), golf course turf
769-620 | AllPro Malathion 57% Premium Grade | Value Garden Supply | Lentils, greenhouse uses, sewage systems, fly control for outdoor building surfaces
769-621 | SMCP Malathion EM-5 | Value Garden Supply | Residential lawns (broadcast)
769-644 | SMCP MV Fog Solution | Value Garden Supply | Animal premise uses for dairy and livestock barns, stables and pens, food processing plants, outdoor use as a crack and crevice treatment around dairies and stables
769-844 | Pratt Malathion Spray | Value Garden Supply | Residential lawns (broadcast)
769-961 | Pratt Malathion 80 | Value Garden Supply | Dairy cattle (lactating and nonlactating), poultry houses, cowpea forage and hay, cranberry, plum
5905-250 | Fyfanon 8 LB Emulsion | Helena Chemical Company | Lentils, cowpea
9779-5 | Malathion 5 | WinField Solutions | Lentils
10088-56 | Malathion 57% | Athea Laboratories, Inc. | Ornamental lawns and turf
10163-21 | Prokil Malathion 8 | Gowan | Lentils, greenhouse uses
10163-152 | Malathion Technical | Gowan | Greenhouse food use
19713-217 | Drexel Malathion 5EC | Drexel Chemical Company | Lentils
19713-402 | Drexel Malathion Technical | Drexel Chemical Company | Greenhouse food crops, uses around commercial and industrial buildings, sewage systems
34704-108 | Clean Crop Malathion 57 EC | Loveland Products, Inc. | Lentils
34704-474 | Cythion 8 Aquamul | Loveland Products, Inc. | Lentils
47000-107 | Prozap Malathion | Chem-Tech Ltd. | Lentils, residential lawns (broadcast)
48273-26 | Marman Malathion ULV | Nufarm | Lentils, greenhouse food uses
59144-1 | Malathion 50% Insect Spray | Gro Tec, Inc. | Greenhouse uses
66330-220 | Malathion 5 EC | Arysta LifeScience | Lentils, Greenhouse uses
66330-228 | Malathion Technical | Arysta LifeScience | Greenhouse uses
66330-248 | Malathion 8 EC | Arysta LifeScience | Greenhouse uses, lentils, Around the outside of buildings

Table 3 of this unit includes the names and addresses of record for all registrants of the products in Tables 1 and 2 of this unit, in sequence by EPA company number.

Table 3.— Registrants of Cancelled or Amended Malathion Products
EPA Company Number | Company Name and Address
239 | The Scotts Company LLC 14111 Scottslawn Road Marysville, OH 43041
655 | Prentiss Incorporated 509 Tower Valley Drive Hillsboro, MO 63050
769, 192 | Value Garden Supply 9100 W. Bloomington Freeway Suite 113 Bloomington, MN 55431
5905 | Helena Chemical Company 7664 Moore Road Memphis, TN 38120
9779 | WinField Solutions PO Box 64589 MS 5705 St. Paul, MN 55164-0589
10088 | Athea Laboratories, Inc. PO Box 240014 Milwaukee, WI 53224
10163 | Gowan PO Box 5569 Yuma, AZ 85366-5569
19713 | Drexel Chemical Company 1700 Channel Avenue PO Box 13327 Memphis, TN 38113-0327
34704 | Loveland Products, Inc. 7251 W 4th Street PO Box 1286 Greeley, CO 80632-1286
47000 | Chem-Tech, Ltd. 4515 Fleur Dr. #303 Des Moines, IA 50321
48273, 228 | Nufarm Americas, Inc. 150 Harvester Drive, Suite 200 Burr Ridge, IL 60527
59144 | RegWest on behalf of Gro Tec, Inc. 30856 Rocky Road Greeley, CO 80631-9375
66330 | Arysta Life Science North America 15401 Weston Parkway, Suite 150 Cary, NC 27513

III. Summary of Public Comments Received and Agency Response to Comments

During the public comment period provided, EPA received no comments in response to the May 20, 2009 Federal Register notice (74 FR 23708; FRL-8414-2) announcing the Agency's receipt of the requests for voluntary cancellations and amendments to terminate uses of malathion.

IV. Cancellation Order

Pursuant to FIFRA section 6(f), EPA hereby approves the requested cancellations and amendments to terminate uses of malathion registrations identified in Tables 1 and 2 of Unit II. Accordingly, the Agency orders that the malathion product registrations identified in Tables 1 and 2 of Unit II. are hereby canceled or amended to terminate the affected uses. Any distribution, sale, or use of existing stocks of the products identified in Tables 1 and 2 of Unit II. in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this notice includes the following existing stocks provisions.

Registrants may sell or distribute existing stocks for 1 year from the effective date of cancellation. This policy is in accordance with the Agency's statement of policy as prescribed the Federal Register of June 26, 1991 (56 FR 29362) (FRL-3846-4). Existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a special review action, or where the Agency has identified significant potential risk concerns associated with a particular chemical.

List of Subjects

Environmental protection, Pesticides and pests, Malathion.

Dated: July 2, 2009.
Peter Caulkins,
Acting Director, Special Review and Reregistration Division, Office of Pesticide Programs.

[FR Doc. E9-16641 Filed 7-14-09; 8:45 am]

BILLING CODE 6560-50-S